ENVIRONMENTAL PROTECTION AGENCY

[OW-2003-0081; FRL-7859-7]

Agency Information Collection Activities; Submission to OMB for Review and Approval; Comment Request; Survey Questionnaire To Determine the Effectiveness, Costs, and Impacts of Sewage and Graywater Treatment Devices for Large Cruise Ships Operating in Alaska, EPA ICR Number 2133.01, OMB Control Number 2040-NEW

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before February 9, 2005.

ADDRESSES: Submit your comments, referencing docket ID number OW-2003-0081, to (1) EPA online using EDOCKET (our preferred method), by email to ow-docket@epa.gov, or by mail to: EPA Docket Center, Environmental Protection Agency, Water Docket, EPA West, 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Elizabeth Kim, Oceans and Coastal Protection Division, Office of Water, Mail Code 4504T, Environmental Protection Agency, 1200 Pennsylvania Ave., NW, Washington, DC 20460; telephone number: (202) 566-1270; fax number: (202) 566-1546; email address: kim.elizabeth@epa.gov.

SUPPLEMENTARY INFORMATION: EPA has submitted the following ICR to OMB for review and approval according to the procedures prescribed in 5 CFR 1320.12. On February 3, 2004 (69 FR 5145), EPA sought comments on this ICR pursuant to 5 CFR 1320.8(d). EPA has addressed the comments received in the supporting statement of this ICR. Please note that the first Federal Register notice submitted included an incorrect ICR number (OW-2003-0014). The correct EPA ICR Number is 2133.01.

EPA has established a public docket for this ICR under Docket ID No. OW-2003-0081, which is available for public viewing at the Water Docket in the EPA Docket Center (EPA/DC), EPA West, Room B102, 1301 Constitution Ave., NW, Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Survey Questionnaire to Determine the Effectiveness, Costs, and Impacts of Sewage and Graywater Treatment Devices for Large Cruise Ships Operating in Alaska.

Abstract: On December 12, 2000, Congress passed HR 4577 (Public Law 106-554), “Department of Labor, Health and Human Services, and Education, and Related Agencies Appropriations Act.” This act included a section entitled “Title XIV: Certain Alaskan Cruise Ship Operations” (33 U.S.C. 1901 Note). Title XIV set requirements for the discharge of sewage and graywater from cruise ships authorized to carry for hire 500 or more passengers while operating in the waters of the Alexander Archipelago and the navigable waters of the United States within the State of Alaska and within the Kachemak Bay National Estuarine Research Reserve (hereafter referred to as waters in and near Alaska). Title XIV also authorized that:

the Administrator [of EPA] may promulgate effluent standards for treated sewage (human body waste and the wastes from toilets and other receptacles intended to receive or retain human body waste) and graywater (galley, dishwasher, bath, and laundry waste water) from cruise vessels operating in the waters of the Alexander Archipelago or the navigable waters of the United States within the State of Alaska or within the Kachemak Bay National Estuarine Research Reserve. Regulations implementing such standards shall take into account the best available scientific information on the environmental effects of the regulated discharges and the availability of new technologies for wastewater treatment.

EPA has begun an effort to develop and promulgate regulations, as necessary and appropriate, for controlling the discharge of sewage and graywater from cruise ships covered by Title XIV. Title XIV provides that the authority of sections 308(a) and 308(b) of the Clean Water Act, regarding records, reports, and inspections, shall be available to carry out the provisions of the Act (section 1413). EPA has prepared an ICR for OMB approval for gathering data in support of this rulemaking. The ICR requests approval to collect information from cruise lines and cruise ships covered by Title XIV.

The information to be gathered with a survey questionnaire would include: general information regarding the cruise line and each of the cruise vessels authorized to carry for hire 500 or more passengers in waters in and near Alaska (e.g., size, capacity, ports of call); description of sources of graywater; ship-board plumbing systems; data describing the effectiveness of sewage and graywater treatment systems and marine sanitation devices (MSDs) operating on these large vessels at removing pollutants of concern; costs of these systems; pollution prevention programs and management practices; information pertinent to environmental assessment; and financial information and data necessary for economic impact analysis. When possible, EPA will use available information to complete answers to some questions. In these cases, the respondent will be asked to verify the information and update it if necessary. The survey questionnaire will provide instructions on the procedures for making CBI claims, if necessary, and the respondents will be informed of the rules governing protection of CBI, for information that warrants such claims.

EPA also intends to continue to supplement this information collection by gathering additional publicly available information and data from the Alaska Department of Environmental Conservation (ADEC) and the U.S. Coast Guard (USCG), the cruise ship industry, and other stakeholders.

An agency may not conduct or sponsor, and a person is not required to respond to, a collection of information unless it displays a currently valid OMB control number. The OMB control numbers for EPA's regulations in 40 CFR are listed in 40 CFR part 9 and are identified on the form and/or instrument, if applicable.

Burden Statement: EPA estimates that 12 cruise line operators would respond to the survey for a total of 30 vessels operating in Alaska. The annual public reporting and recordkeeping burden for this collection of information is estimated to average across all vessels 42.3 hours per response. That is 54 hours per response to complete and review responses to the survey questionnaire and associated data submissions for each of the 16 cruise ships that are certified by the U.S. Coast Guard to discharge continuously in the waters in and near Alaska under 33 CFR 159.309. This estimate includes the burden for verifying and updating “draft” responses provided by EPA to a portion of the questions. For the remaining 14 ships that do not have wastewater treatment systems authorized to discharge continuously, EPA estimates it would take an average of approximately 29 hours per response to complete and review responses to the survey questionnaire.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Operators of cruise lines and individual cruise ships authorized to carry for hire 500 or more passengers, operating in waters in and near Alaska.

Estimated Number of Respondents: 12 cruise line operators.

Frequency of Response: One time response.

Estimated Total Annual Hour Burden: 1,270 hours for all ships.

Estimated Total Annual Cost: $50,981, includes $0 annualized capital expenditure, $890 Respondent O&M costs, and $50,091 Respondent Labor costs.

Dated: December 20, 2004.
Oscar Morales,
Director, Collection Strategies Division.

[FR Doc. 05-419 Filed 1-7-05; 8:45 am]

BILLING CODE 6560-50-P